DEPARTMENT OF TRANSPORTATION

Office of the Secretary

Transportation Labor-Management Board Meeting

AGENCY: Office of the Secretary, Department of Transportation.

ACTION: Notice of meeting.

SUMMARY: The U.S. Department of Transportation (DOT) announces a meeting of the Transportation Labor-Management Board (Board). Notice of the meeting is required under the Federal Advisory Committee Act.

Time and Place: The Board will meet on Wednesday, August 27, 2003, at 2 p.m., at the U.S. Department of Transportation, Nassif Building, room 3246, 400 Seventh Street, SW., Washington, DC 20590. The room is located on the 3rd floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, Workforce Environment and Pay Division, M-13, U.S. Department of Transportation, Nassif Building, 400 Seventh Street, SW., room 7411, Washington, DC 20590, (202) 366-9455 or 4088.

SUPPLEMENTARY INFORMATION: The purpose of this meeting is to receive a briefing on the Federal Personnel and Payroll System (FPPS) and hear status reports from three subcommittees on Human Capital, Competitive Sourcing, and the Labor Relations Climate Survey.

Public Participation: We invite interested persons and organizations to submit comments. Mail or deliver your comments or recommendations to Stephen Gomez at the address shown above. Comments should be received by August 18, 2003 in order to be considered at the August 27th meeting.

Issued in Washington, DC, on July 31, 2003.
For the U.S. Department of Transportation.
Linda Moody,
Associate Director, Workforce Environment and Pay Division.

[FR Doc. 03-20053 Filed 8-5-03; 8:45 am]

BILLING CODE 4910-62-P